DEPARTMENT OF COMMERCE

National Oceanic and Atmospheric Administration

RIN 0648-XD309

Pacific Fishery Management Council; Public Meeting

AGENCY: National Marine Fisheries Service (NMFS), National Oceanic and Atmospheric Administration (NOAA), Commerce.

ACTION: Notice; public meeting.

SUMMARY: The Pacific Fishery Management Council's (Pacific Council) Salmon Advisory Subpanel (SAS) and Salmon Technical Team (STT) will hold a webinar, which is open to the public.

DATES: The SAS and STT will hold the webinar on Thursday, June 12, from 1:30 to 5 p.m.

ADDRESSES: To attend the webinar, visit http://www.joinwebinar.com. Enter the webinar ID, which is 826-482-319, and your name and email address (required). Once you have joined the webinar, choose either your computer's audio or select “Use Telephone.” If you do not select “Use Telephone” you will be connected to audio using your computer's microphone and speakers (VolP). It is recommended that you use a computer headset as GoToMeeting allows you to listen to the meeting using your computer headset and speakers. If you do not have a headset and speakers, you may use your telephone for the audio portion of the meeting by dialing this TOLL number 1-646-558-2121 (not a toll-free number); phone audio access code 278-821-392; audio phone pin shown after joining the webinar. System Requirements for PC-based attendees: Required: Windows® 7, Vista, or XP; for Mac®-based attendees: Required: Mac OS® X 10.5 or newer; and for mobile attendees: iPhone®, iPad®, Android™ phone or Android tablet (See the GoToMeeting Webinar Apps). You may also send an email to Mr. Kris Kleinschmidt or contact him at 503-820-2425 for technical assistance. A listening station will also be provided at the Pacific Council office.

Council address: Pacific Council, 7700 NE Ambassador Place, Suite 101, Portland, OR 97220-1384.

FOR FURTHER INFORMATION CONTACT: Mr. Mike Burner, Pacific Council; telephone: (503) 820-2414.

SUPPLEMENTARY INFORMATION: The SAS and STT will discuss items on the Pacific Council's June meeting agenda. Major topics include: Lower Columbia River Natural Coho Harvest Matrix Update and Columbia River Cormorant Management Plan. The SAS and STT may also address one or more of the Pacific Council's scheduled Administrative Matters. Public comments during the webinar will be received from attendees at the discretion of the SAS and STT Chairs.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The meetings are physically accessible to people with disabilities. Requests for sign language interpretation or other auxiliary aids should be directed to Mr. Kris Kleinschmidt at (503) 820-2425 at least 5 days prior to the meeting date.

Dated: May 21, 2014.
Tracey L. Thompson,
Acting Deputy Director, Office of Sustainable Fisheries, National Marine Fisheries Service.

[FR Doc. 2014-12198 Filed 5-27-14; 8:45 am]

BILLING CODE 3510-22-P